DEPARTMENT OF ENERGY

National Nuclear Security Administration

Floodplain/Wetlands Statement of Findings for the Security Perimeter Project at Los Alamos National Laboratory, Los Alamos, New Mexico

AGENCY: National Nuclear Security Administration, Los Alamos Site Office, DOE.

ACTION: Notice of floodplain/wetlands statement of findings.

SUMMARY: This floodplain/wetlands statement of findings is for the construction of a single bypass road at the north end of Technical Area (TA) 3 at Los Alamos National Laboratory (LANL) in Los Alamos, New Mexico, as part of the Security Perimeter Project. This project combines the installation of access control stations at key locations around TA-3 and modification of road intersections with the construction of a bypass road to control unauthorized access to the core technical and administrative area at LANL. A wetland of less than 1,000 square feet in area would be filled during construction of the bypass road. The 100-year floodplain of Los Alamos Canyon is located on the canyon floor below the Research Park and would not be directly impacted by the project.

In accordance with DOE regulations for compliance with floodplain and wetlands environmental review requirements (10 CFR part 1022), NNSA had prepared a floodplain/wetlands assessment that evaluates the positive and negative, direct and indirect, and long- and short-term effects on floodplains and wetlands in and near the project area.

FOR FURTHER INFORMATION CONTACT: Elizabeth Withers, U.S. Department of Energy, National Nuclear Security Administration, Los Alamos Site Office, 528 35th Street, Los Alamos, NM 87544. Telephone (505) 667-8690, of facsimile (505) 667-9998; or electronic address: ewithers@doeal.gov.

For Further Information on General DOE Floodplain Environmental Review Requirements, contact: Carol M. Borgstrom, Director, Office of NEPA Policy and Compliance, EH-42, Department of Energy, 100 Independence Avenue, SW., Washington, DC 20585-0119. Telephone (202) 586-4600 or (800) 472-2756, facsimile (202) 586-7031.

SUPPLEMENTARY INFORMATION: In accordance with 10 CFR part 1022, NNSA published a Notice of Floodplain and Wetlands Involvement on July 21, 2003 (68 FR 43104). This notice announced that the floodplain/wetlands assessment document was available for a 15-day review period and that copies of the document could be obtained by contacting Ms. Withers at the above address or could be viewed at two public DOE reading rooms in Los Alamos and Albuquerque, New Mexico. One comment was received from the Federal Register notice on the proposed floodplain action.

Project Description: As a result of the events of September 11, 2001, the nature and extent of the terrorist threat has changed significantly in terms of the potential magnitude of the attack as well as the terrorists' motivations, targets, and methods. In recognition of this increased threat, LANL management and security officials have determined that there is a critical need to upgrade the physical protection around the core LANL technical and administrative area in TA-3, which houses vital national assets, government property, and key scientific and support staff.

The selected approach combines the installation of three access control stations at key locations and modification of road intersections with the development of a single bypass road at the north end of TA-3 to accomplish the mission need described. The proposed North Bypass Road would connect East Jemez Road, Diamond Drive, and State Road 501 by detouring behind the Los Alamos Research Park and along the south rim of Los Alamos Canyon. A bridge would be used to span a small tributary canyon. There is a small wetland within the Research Park that is primarily fed by stormwater runoff from adjacent buildings and parking lots. This wetland would be directly affected by the project. Indirect impacts to the 100-year floodplain of Los Alamos Canyon would be avoided by the use of best management practices for erosion and siltation control.

Alternatives: Several alternative alignments for the North Bypass Road were considered in the design of the project in an attempt to avoid sensitive environmental resources (wetlands, archaeological sites, areas of contamination, etc.); however, in order to maintain a safe and secure separation from the TA-3 boundaries, the roadway was confined to the corridor between the Research Park buildings and the canyon rim where the wetland is located. Hence, destruction of the wetland was unavoidable. The No Action alternative, where the bypass road would not be constructed and no activity would be taken to disturb the Los Alamos Canyon floodplain or the Research Park wetland, was dismissed as unviable because it would not meet the National Security purpose and need for the project.

Floodplain/Wetland Impacts And Mitigation Actions: The primary direct impact of the project is the removal of the wetland for the road construction, which has been determined to be necessary for National Security purposes. No potential for loss of life or property has been identified with respect to floodplains or other wetlands in Los Alamos Canyon, as long as best management practices for soil erosion control are implemented. Possible primary direct effects of the project are a reduction in vegetation cover, exposure, and compaction of mineral soils due to excavation and heavy equipment. Possible secondary direct effects are the potential for the increase of erosion and storm water runoff from the mesa top to the floodplain below.

There are no primary indirect impacts (within the canyon) to the floodplains resulting from the project. If work conducted in the Research Park contributed to increased sediment movement, there may be some retention of those sediments by the floodplains or wetlands down canyon. Secondary indirect impacts (outside of the project area) resulting from the project would result in possible impacts to floodplains and wetlands not associated with the project area (e.g., downstream to the Rio Grande).

The Security Perimeter Project does conform to applicable State or local floodplain protection standards. At a minimum, best management practices for runoff control, such as silt barriers, would be emplaced to mitigate runoff effects during the project. These best management practices would incorporate considerations of the National Pollutant Discharge Elimination System permit program and Environmental Protection Agency requirements for a Notice of Intent and a Storm Water Pollution Prevention Plan under Sections 401 and 404 of the Clean Water Act.

Issued in Los Alamos, NM, on August 8, 2003.
Ralph E. Erickson,
Manager, U.S. Department of Energy, National Nuclear Security Administration, Los Alamos Site Office.

[FR Doc. 03-21025 Filed 8-15-03; 8:45 am]

BILLING CODE 6450-01-P